DEPARTMENT OF COMMERCE

International Trade Administration

University of Chicago Argonne, LLC, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR Part 301). Related records can be viewed between 8:30 a.m. and 5 p.m. in Room 3720, U.S. Department of Commerce, 14th and Constitution Ave, NW., Washington, DC 20230.

Docket Number: 10-073. Applicant: University of Chicago Argonne, LLC, 9700 South Cass Avenue, Argonne, IL 60439. Instrument: Chemical Mechanical Polishing (CMP) Tool. Manufacturer: Logitech Ltd., UK. Intended Use: See application notice at 76 FR 34207, June 13, 2011. Comments: None received. Decision: Approved. Reasons: We know of no instrument of equivalent scientific value to the foreign instrument described above, for such purposes as this is intended to be used, that was being manufactured in the United States at the time of its order.

Dated: July 12, 2011.
Gregory W. Campbell,
Director, Subsidies Enforcement Office Office of Policy, Import Administration.

[FR Doc. 2011-18295 Filed 7-19-11; 8:45 am]

BILLING CODE 3510-DS-P